DEPARTMENT OF HEALTH AND HUMAN SERVICES

Centers for Disease Control and Prevention

[60Day-16-16AMV; Docket No. CDC-2016-0048]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project entitled “Survey of Musculoskeletal Disorders Prevention Tools/Methods: 10-year Follow-Up”. The purpose of this study is to administer a survey of ergonomics practitioners (those holding professional certification) to gather information on the basic tools, direct and observational measurement techniques, and software used at work sites to assess risk factors for musculoskeletal disorders.

DATES: Written comments must be received on or before August 8, 2016.

ADDRESSES: You may submit comments, identified by Docket No. CDC-2016-0048 by any of the following methods:

Federal eRulemaking Portal: Regulations.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Survey of Musculoskeletal Disorders Prevention Tools/Methods: 10-year Follow-Up—New—National Institute for Occupational Safety and Health, Centers for Disease Control and Prevention (CDC).

Background and Brief Description

The mission of the National Institute for Occupational Safety and Health (NIOSH) is to promote safety and health at work for all people through research and prevention. Under Public Law 91- 596, sections 20 and 22 (Section 20-22, Occupational Safety and Health Act of 1970), NIOSH has the responsibility to conduct research to advance the health and safety of workers. In this capacity, NIOSH proposes to administer a survey of ergonomics professionals as a 10-year follow-up to a survey conducted of U.S. Certified Professional Ergonomists (CPEs) by Dempsey et al. and published in 2005 (A survey of tools and methods used by certified professional ergonomists. Applied Ergonomics, 36, 489-503). NIOSH is requesting a one year approval period for this data collection.

The project is planned to extend the original survey in two ways: (1) The sample will be broadened to include international ergonomics practitioners (in Canada, the United Kingdom, New Zealand, and Australia), and, (2) the queried tools and methods have been updated to reflect new and emerging technologies not included in the original survey. The purpose of the survey will be unchanged—to gather information on the types of basic tools, direct and observational measurement techniques, and software used in the field by ergonomics practitioners to assess workplace risk factors for musculoskeletal disorders and to evaluate workplace interventions.

The motivation for the original 2005 survey was to better understand the types of tools and methods practitioners use, their opinions of these tools, and to potentially gain an understanding of the constraints or preferences that influence this selection. At the time of the 2005 survey, there were many tools reported in the literature, but little information on the extent to which these different tools were used by practitioners. Similarly, there was little published information on users' experiences with these different tools. There has been considerable interest in the findings and the Dempsey et al (2005) publication has been widely cited. The program anticipates that a follow-up effort will result in even greater interest as changes in the practice of ergonomics and prevention of soft tissue MSDs can be inferred from comparisons between the two surveys time points.

Since publication of the initial survey findings there has been a proliferation of smart phone/smart device-embedded inertial and acceleration sensors and related “apps” for human motion and activity logging. Little is known about the extent to which ergonomics practitioners are using these newer technologies towards assessing workplace physical activity (and now, workplace inactivity and “sedentarism”) and other job demands. Thus, the survey will provide a contemporary perspective on the scope of use of assessment tools and methods by these professionals. This project will involve the collection of non-sensitive data via web-based survey questionnaire methods. Survey data relate only to respondents' professional practice within the OS&H discipline of ergonomics and prevention of musculoskeletal disorders.

Only certified ergonomics professionals from five countries with specific certification credentials will be eligible and invited to participate. Their participation will be voluntary. The program has assumed an optimistic 80% response rate to estimate the number of respondents at 938 in the estimation of annualized burden hours.

In summary, this study will update information collected and published in 2005 on the methods and tools used by practicing ergonomists. NIOSH expects to complete data collection in 2017. The total estimated burden hours is 469. There are no costs to respondents other than their time.

Estimated Annualized Burden Hours
Type of respondents | Form name | No. of respondents | No. of responses per respondent | Average burden per response (in hrs.) | Total burden (in hrs.)
Certified Ergonomics professionals | Practicing Ergonomist Survey of Tools and Methods | 938 | 1 | 30/60 | 469
Total |  |  |  |  | 469

Leroy A. Richardson,
Chief, Information Collection Review Office, Office of Scientific Integrity, Office of the Associate Director for Science, Office of the Director, Centers for Disease Control and Prevention.

[FR Doc. 2016-13292 Filed 6-6-16; 8:45 am]

BILLING CODE 4163-18-P